NEIGHBORHOOD REINVESTMENT CORPORATION

Sunshine Act Meetings

TIME AND DATE: 2:00 p.m., Thursday, August 18, 2022.

PLACE: Via conference call.

STATUS: Parts of this meeting will be open to the public. The rest of the meeting will be closed to the public.

MATTERS TO BE CONSIDERED: Regular Board of Directors meeting.

The General Counsel of the Corporation has certified that in his opinion, one or more of the exemptions set forth in the Government in the Sunshine Act, 5 U.S.C. 552b (c)(2) and (4) permit closure of the following portion(s) of this meeting:

• Executive Session

Agenda

I. CALL TO ORDER

II. Sunshine Act Approval of Executive (Closed) Session

III. Executive Session Report from CEO

IV. Executive Session: Report from CFO

V. Executive Session: General Counsel Report

VI. Action Item Approval of Minutes

VII. Action Item FY2023 Preliminary Spend Plan

VIII. Discussion Item Report from CIO

IX. Discussion Item Annual Ethics Review—Follow Up

X. Discussion Item Whistleblower Policy

XI. Discussion Item Code of Ethical Conduct

XII. Discussion Item DC and NYC Relocation Update

XIII. Discussion Item FY2024 Budget Submission

XIV. Management Program Background and Updates

XV. Adjournment

PORTIONS OPEN TO THE PUBLIC: Everything except the Executive Session.

PORTIONS CLOSED TO THE PUBLIC: Executive Session.

CONTACT PERSON FOR MORE INFORMATION: Lakeyia Thompson, Special Assistant, (202) 524-9940; Lthompson@nw.org.

Lakeyia Thompson,
Special Assistant.

[FR Doc. 2022-17109 Filed 8-4-22; 4:15 pm]

BILLING CODE 7570-02-P